ENVIRONMENTAL PROTECTION AGENCY

[FRL-8975-9]

Proposed Consent Decree, Clean Air Act Citizen Suit

AGENCY: Environmental Protection Agency (EPA)

ACTION: Notice of Proposed Consent Decree; Request for Public Comment.

SUMMARY: In accordance with section 113(g) of the Clean Air Act, as amended (CAA or “Act”), 42 U.S.C. 7413(g), notice is hereby given of a proposed consent decree to address a lawsuit filed by Association of Irritated Residents (“Plaintiff”) in the United States District Court for the Northern District of California: Association of Irritated Residents v. EPA, No. 09-cv-1890-CW (N.D. Cal.). On or about April 30, 2009, Plaintiff filed a complaint alleging that EPA failed to perform a non-discretionary duty to take action under section 110(k) of the Act on a revision to the state implementation plan (SIP) submitted by the State of California. Specifically, the complaint alleges that EPA failed to take action on two rules amended by the San Joaquin Valley Unified Air Pollution Control District (“District”) on September 21, 2006 and included in a SIP revision submitted to EPA by the California Air Resources Board (CARB) on December 29, 2006: Rule 2020 (“Exemptions”) and Rule 2020 (“New and Modified Stationary Source Review Rule”). The subject rule amendments relate to permitting of agricultural sources. In the SIP revision dated December 29, 2006, CARB submitted amended District Rule 2020 in its entirety but only Paragraph 4.6.9 of District Rule 2020. Under the terms of the proposed consent decree, a deadline has been established for EPA to take action on the amended District rules as submitted on December 29, 2006. If EPA fulfills its obligations, Plaintiff has agreed to dismiss this suit with prejudice.

DATES: Written comments on the proposed consent decree must be received by December 2, 2009.

ADDRESSES: Submit your comments, identified by Docket ID number EPA-HQ-OGC-2009-0831, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m., Monday through Friday, excluding legal holidays. Comments on a disk or CD-ROM should be formatted in Word or ASCII file, avoiding the use of special characters and any form of encryption, and may be mailed to the mailing address above.

FOR FURTHER INFORMATION CONTACT: Jefferson Wehling, Office of Regional Counsel (ORC-2), U.S. Environmental Protection Agency, Region 9, 75 Hawthorne Street, San Francisco, CA 94105; telephone: (415) 972-3901; fax number (415) 947-3571; e-mail address: wehling.jefferson@epa.gov.

SUPPLEMENTARY INFORMATION:

I. Additional Information About the Proposed Consent Decree

This proposed consent decree would resolve a lawsuit seeking action by EPA under section 110(k) of the CAA on two rules amended by the District on September 21, 2006 and included in a SIP revision submitted by CARB on December 29, 2006: Rule 2020 (“Exemptions”) and Paragraph 4.6.9 of Rule 2020 (“New and Modified Stationary Source Review Rule”). The subject rule amendments relate to permitting of agricultural sources. The District has adopted further amendments to Rules 2020 and 2201, and CARB has submitted the further amended rules, which carry forward the specific amendments to the rules submitted on December 29, 2006, to EPA as SIP revisions. The further amended District Rule 2020 was submitted on March 7, 2008, and the further amended District Rule 2201 was submitted on March 17, 2009.

Under the terms of the proposed consent decree, EPA will sign for publication in the Federal Register notice of the Agency's final action pursuant to CAA section 110(k) on Rule 2020 (“Exemptions”) and Paragraph 4.6.9 of Rule 2020 (“New and Modified Stationary Source Review Rule”), submitted to EPA for review on December 29, 2006, by March 15, 2010. However, the proposed consent decree provides that EPA final action on the more recent amendments to District Rules 2020 and 2201 shall discharge EPA's obligations to act on the subject rules as submitted on December 29, 2006.

In the proposed consent decree, EPA agrees that, pursuant to CAA section 304(d), 42 U.S.C. 7604(d), Plaintiff is both eligible and entitled to recover its costs of litigation in this action, including reasonable attorneys' fees, incurred prior to entry of the consent decree. The consent decree becomes an order of the Court upon entry, and, consistent with the terms of the consent decree, the case shall be dismissed with prejudice after EPA takes final action on the amended rules.

For a period of thirty (30) days following the date of publication of this notice, the Agency will receive written comments relating to the proposed consent decree from persons who were not named as parties to the litigation in question. EPA or the Department of Justice may withdraw or withhold consent to the proposed consent decree if the comments disclose facts or considerations that indicate that such consent is inappropriate, improper, inadequate, or inconsistent with the requirements of the Act. Unless EPA or the Department of Justice determines, based on any comment which may be submitted, that consent to the consent decree should be withdrawn, the terms of the decree will be affirmed.

II. Additional Information About Commenting on the Proposed Consent Decree

A. How Can I Get a Copy of the Consent Decree?

The official public docket for this action (identified by Docket ID No. EPA-HQ-OGC-2009-0831) contains a copy of the proposed consent decree. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, key in the appropriate docket identification number then select “search”.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov website to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: October 26, 2009.
Richard B. Ossias,
Associate General Counsel.

[FR Doc. E9-26338 Filed 10-30-09; 8:45 am]

BILLING CODE 6560-50-P